DEPARTMENT OF HOMELAND SECURITY

Office of the Secretary

[Docket No. DHS-2008-0120]

Privacy Act of 1974; Department of Homeland Security—023 Personnel Security Management System of Records

AGENCY: Privacy Office; DHS.

ACTION: Notice of Privacy Act system of records.

SUMMARY: In accordance with the Privacy Act of 1974 and as part of the Department of Homeland Security's ongoing effort to review and update system of records notices, the Department of Homeland Security proposes to consolidate into a new Department of Homeland Security system of records notice titled, Personnel Security Management System of Records: Treasury/CS.270 Background-Record File of Non-Customs Employees, Treasury/CS.284 Personnel Verification System, and DOT/CG 611 Investigative Case System, and partially consolidate DHS/OS-001 Office of Security File System and FEMA/SEC-1 Security Support System. Categories of individuals, categories of records, and the routine uses of these legacy systems have been reviewed and updated to better reflect the Department's personnel security management record system. Additionally, the Department of Homeland Security is issuing a Notice of Proposed Rulemaking concurrent with this system of records elsewhere in the Federal Register. The activities performed by the Department's Personnel Security program often overlap with other security-related activities such as access control and investigatory records. Accordingly, data within each of the categories of individuals, categories of records, and routine uses may have similarities with other security-related systems of records, but each system is distinct based on its purpose. This consolidated system will be included in the Department of Homeland Security's inventory of record systems.

DATES: Written comments must be submitted on or before February 17, 2009. This new system will be effective February 17, 2009.

ADDRESSES: You may submit comments, identified by docket number DHS-2008-0120 by one of the following methods:

• Federal e-Rulemaking Portal: http://www.regulations.gov. Follow the instructions for submitting comments.

• Fax: 703-483-2999.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, section 1512, 116 Stat. 2310 (November 25, 2002), the Department of Homeland Security (DHS) and its components and offices have relied on preexisting Privacy Act systems of records notices for the collection and maintenance of records that pertain to personnel security management.

As part of its efforts to streamline and consolidate its Privacy Act record systems, DHS is establishing a new agency-wide system of records under the Privacy Act (5 U.S.C. 552a) for DHS personnel security management records. The Personnel Security Management system of records is the baseline system for personnel security activities, as led by the DHS Office of the Chief Security Officer, for the Department. This will ensure that all DHS components follow the same privacy rules for collecting and handling personnel security management records.

In accordance with the Privacy Act of 1974 and as part of DHS's ongoing effort to review and update system of records notices, DHS proposes to consolidate into a new DHS system of records notice titled, DHS/All—023 Personnel Security Management System of Records: Treasury/CS.270 Background-Record File of Non-Customs Employees (66 FR 52984 October 18, 2001), and Treasury/CS.284 Personnel Verification System (66 FR 52984 October 18, 2001), and partially consolidate DHS/OS-001 Office of Security File System (71 FR 53700 September 12, 2006) and FEMA/SEC-1 Security Support System (55 FR 37182 September 7, 1990). Categories of individuals, categories of records, and the routine uses of these legacy systems have been reviewed and updated to better reflect the Department's personnel security management record system. Additionally, the Department of Homeland Security is issuing a Notice of Proposed Rulemaking concurrent with this system of records elsewhere in the Federal Register. The activities performed by the Department's Personnel Security program often overlap with other security-related activities such as access control and investigatory records. Accordingly, data within each of the categories of individuals, categories of records, and routine uses may have similarities with other security-related systems of records, but each system is distinct based on its purpose.

The purpose of this system is to maintain processing records of personnel security-related clearance actions; to record suitability determinations; security clearances issued or denied; and to verify eligibility for access to classified information or assignment to a sensitive position. Also, records may be used by the Department for adverse personnel actions such as removal from sensitive duties, removal from employment, and denial to a restricted or sensitive area, and revocation of security clearance. The system also assists in capturing background investigations and adjudications; directing the clearance process for granting, suspending, revoking and denying access to classified information; managing state, local and private sector clearance programs and contractor suitability programs; determining eligibility for unescorted access to DHS facilities or information technology systems; and other activities relating to personnel security management responsibilities at DHS.

The Office of the Chief Security Officer is currently implementing a new web-based personnel and information security application, Integrated Security Management System (ISMS). ISMS will replace the existing case management system currently in use for Customs and Border Protection, Federal Law Enforcement Training Center, Immigration and Customs Enforcement, and Federal Emergency Management Agency.

Further, this system of records is separate from DHS-OS-2006-047 Personal Identity Verification Management System (71 FR 53697 September 12, 2006), which supports the administration of the HSPD-12 program that directs the use of a common identification credential for both logical and physical access to federally controlled facilities and information systems while enhancing security, increasing efficiency, reducing identify fraud, and protecting personal privacy. This consolidated system will be included in DHS's inventory of record systems.

II. Privacy Act

The Privacy Act embodies fair information principles in a statutory framework governing the means by which the United States Government collects, maintains, uses and disseminates individual's records. The Privacy Act applies to information that is maintained in a “system of records.” A “system of records” is a group of any records under the control of an agency from which information is stored and retrieved by the name of the individual or by some identifying number such as property address, mailing address, or symbol assigned to the individual. In the Privacy Act, an individual is defined to encompass United States citizens and lawful permanent residents. DHS extends administrative Privacy Act protections to all individuals where information is maintained on both U.S. citizens, lawful permanent residents, and visitors. Individuals may request their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is a description of the Personnel Security Management System of Records.

In accordance with 5 U.S.C. 552a(r), DHS has provided a report of this new system of records to the Office of Management and Budget (OMB) and to Congress.

SYSTEM OF RECORDS:

DHS/ALL-023.

SYSTEM NAME:

Department of Homeland Security—023 Personnel Security Management System of Records.

SECURITY CLASSIFICATION:

Unclassified, sensitive, and classified.

SYSTEM LOCATION:

Records are maintained at several Headquarters locations and in component offices of the Department of Homeland Security, in Washington, DC, field locations, and the Department of Treasury, Bureau of Public Debt for Office of Inspector General employees and applicants. For background investigations adjudicated by the Office of Personnel Management (OPM), OPM may retain copies of those files, pursuant to their records retention schedules.

CATEGORIES OF INDIVIDUALS COVERED BY THE SYSTEM:

Categories of individuals covered by this system include DHS covered individuals (e.g., federal employees, applicants, excepted service federal employees, contractor employees, retired employees, and past employees) providing support to DHS and who require unescorted access to DHS-owned facilities, DHS-controlled facilities, or commercial facilities operating on behalf of DHS; access to DHS information technology (IT) systems and the systems' data; or access to national security information including classified information.

Also covered are State and local government personnel and private sector individuals who serve on an advisory committee or board sponsored by DHS; individuals, including State and local government personnel and private-sector individuals, who are authorized by DHS to access Departmental facilities, communications security equipment, and information technology systems that process sensitive or classified national security information.

CATEGORIES OF RECORDS IN THE SYSTEM:

Categories of records include:

• Individual's name;

• Social security number;

• Date and place of birth;

• Citizenship;

• Access Control Pass or Credential number

• Records relating to the management and operation of DHS personnel security program, including but not limited to:

○ Completed standard form questionnaires issued by the Office of Personnel Management;

○ Originals or copies of background investigative reports;

○ Supporting documentation related to the background investigations and adjudications including medical and financial data;

○ Information related to congressional inquiry; and

○ Other information relating to an individual's eligibility for access to classified or sensitive information.

• Records relating to management and operation of DHS programs to safeguard classified and sensitive but unclassified information, including but not limited to:

○ Document control registries;

○ Courier authorization requests;

○ Non-disclosure agreements;

○ Records of security violations;

○ Records of document transmittals; and

○ Requests for secure storage and communications equipment.

• Records relating to the management and operation of DHS special security programs, including but not limited to:

○ Requests for access to sensitive compartmented information (SCI);

○ Contact with foreign officials and foreign travel registries; and

○ Briefing/debriefing statements for special programs, sensitive positions, and other related information and documents required in connection with personnel security clearance determinations.

• Records relating to the management and operation of the DHS security program, including but not limited to:

○ Inquiries relating to suspected security violation(s);

○ Recommended remedial actions for possible security violation(s);

○ Reports of investigation regarding security violations;

○ Statements of individuals;

○ Affidavits;

○ Correspondence;

○ Documentation pertaining to investigative or analytical efforts by DHS Security program personnel to identify threats to DHS personnel, property, facilities, and information; and

○ Intelligence reports and database results relating to DHS personnel, applicants, or candidates for DHS employment or access to DHS facilities or information

AUTHORITY FOR MAINTENANCE OF THE SYSTEM:

5 U.S.C. 301; the Federal Records Act, 44 U.S.C. 3101; Executive Order (EO) 9397; EO 10450; EO 12968, 5 CFR part 731; 5 CFR part 732; 5 CFR part 736; 32 CFR part 147; and DCID 6/4.

PURPOSE(S):

The purpose of this system is to maintain records of processing of personnel security-related clearance actions; to record suitability determinations; security clearances issued or denied; and to verify eligibility for access to classified information or assignment to a sensitive position. Also, records may be used by the Department for adverse personnel actions such as removal from sensitive duties, removal from employment, or denial to a restricted or sensitive area, and revocation of security clearance. The system also assists in capturing background investigations and adjudications; directing the clearance process for granting, suspending, revoking and denying access to classified information; managing state, local and private sector clearance programs and contractor suitability programs; determining eligibility for unescorted access to DHS facilities or information technology systems; and other activities relating to personnel security management responsibilities at DHS.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To an appropriate Federal, State, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and disclosure is appropriate to the proper performance of the official duties of the person making the request.

I. To an individual's prospective or current employer to the extent necessary to determine employment eligibility.

J. To a court, magistrate, or administrative tribunal in the course of presenting evidence, including disclosures to opposing counsel or witnesses in the course of civil discovery, litigation, or settlement negotiations or in connection with criminal law proceedings or pursuant to the order of a court of competent jurisdiction in response to a subpoena from a court of competent jurisdiction.

K. To third parties during the course of a law enforcement investigation to the extent necessary to obtain information pertinent to the investigation, provided disclosure is appropriate to the proper performance of the official duties of the officer making the disclosure.

L. To a public or professional licensing organization when such information indicates, either by itself or in combination with other information, a violation or potential violation of professional standards, or reflects on the moral, educational, or professional qualifications of an individual who is licensed or who is seeking to become licensed.

DISCLOSURE TO CONSUMER REPORTING AGENCIES:

None.

POLICIES AND PRACTICES FOR STORING, RETRIEVING, ACCESSING, RETAINING, AND DISPOSING OF RECORDS IN THE SYSTEM:

STORAGE:

Records in this system are stored electronically or on paper in secure facilities in a locked drawer behind a locked door. The records are stored on servers, magnetic disc, tape, digital media, and CD-ROM.

RETRIEVABILITY:

Records may be retrieved by individual's name, date of birth, social security number, if applicable or other unique individual identifier, e.g., access control pass or credential number.

SAFEGUARDS:

Records in this system are safeguarded in accordance with applicable rules and policies, including all applicable DHS automated systems security and access policies. Strict controls have been imposed to minimize risk of compromising the information that is being stored. Access to the computer system containing the records in this system is limited to those individuals who have a need to know the information for the performance of their official duties and who have appropriate clearances or permissions.

RETENTION AND DISPOSAL:

Pursuant to GRS 18, Item 21 through 25, records relating to alleged security violations are destroyed two years after completion of final action or when no longer needed, whichever is sooner; records relating to alleged violations of a sufficient serious nature that are referred for prosecutive determinations are destroyed five years after the close of the case; personnel security clearance files are destroyed upon notification of death or not later than five years after separation or transfer of employee or no later than five years after contract relationship expires, whichever is applicable.

SYSTEM MANAGER AND ADDRESS:

For Headquarters components of DHS, the System Manager is the Director of Departmental Disclosure, Department of Homeland Security, Washington, DC 20528. For components of DHS, the System Manager can be found at http://www.dhs.gov/foia under “contacts.”

NOTIFICATION PROCEDURE:

Individuals seeking notification of and access to any record contained in this system of records, or seeking to contest its content, may submit a request in writing to the Headquarters or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Records are generated from sources contacted during personnel and background investigations.

EXEMPTIONS CLAIMED FOR THE SYSTEM:

The Secretary of Homeland Security has exempted this system from subsections (c)(3), (d), (e)(1), (e)(4)(G), (H), (I), and (f) of the Privacy Act pursuant to 5 U.S.C. 552a (k)(1), (k)(2), (k)(3), and (k)(5) of the Privacy Act.

Dated: December 22, 2008.
Hugo Teufel III,
Chief Privacy Officer, Department of Homeland Security.

[FR Doc. E9-924 Filed 1-15-09; 8:45 am]

BILLING CODE 4410-10-P